DEPARTMENT OF STATE

[Public Notice 8748]

Notice of Meeting of Advisory Committee on International Law

A meeting of the Department of State's Advisory Committee on International Law will take place on Friday, June 20, 2014, from 10:00 a.m. to 5:00 p.m. at the George Washington University Law School, Michael K. Young Faculty Conference Center, 716 20th Street NW., 5th Floor, Washington, DC. Principal Deputy Legal Adviser Mary McLeod will chair the meeting, which will be open to the public up to the capacity of the meeting room. The meeting will include discussions on a variety of international law topics.

Members of the public who wish to attend should contact the Office of the Legal Adviser by June 16 at lermanjb@state.gov or 202-776-8442 and provide their name, professional affiliation, address, and phone number. A valid photo ID is required for admission to the meeting. Attendees who require reasonable accommodation should make their requests by June 13. Requests received after that date will be considered but might not be possible to accommodate.

Dated: May 21, 2014.
Jonas Lerman,
Attorney-Adviser, Office of the Legal Adviser, Executive Director, Advisory Committee on International Law, United States Department of State.

[FR Doc. 2014-12584 Filed 5-29-14; 8:45 am]

BILLING CODE 4710-08-P